DEPARTMENT OF TRANSPORTATION

Federal Highway Administration

Privacy Act of 1974: System of Records

AGENCY: Federal Highway Administration, Department of Transportation (DOT).

ACTION: Notice of establishment of system of records.

SUMMARY: DOT intends to establish a system of records under the Privacy Act of 1974.

DATES: Effective Date: January 8, 2007. If no comments are received, the proposal will become effective on the above date. If comments are received, the comments will be considered and, where adopted, the documents will be republished with changes.

FOR FURTHER INFORMATION CONTACT: Steven Lott, Department of Transportation, Office of the Secretary, 400 7th Street, SW., Washington, DC 20590, (202) 366-1314 (telephone), (202) 366-7373 (fax), Steven.Lott@dot.gov (Internet address).

SUPPLEMENTARY INFORMATION: The Department of Transportation system of records notice subject to the Privacy Act of 1974 (5 U.S.C. 552a), as amended, has been published in the Federal Register and is available from the above mentioned address.

SYSTEM NUMBER: DOT/FHWA 218.

System name:

Managerial Cost Accounting System.

Security classification:

Sensitive, unclassified.

System location:

This system of records is located in the Federal Highway Administration (FHWA), Office of Policy, 400 7th Street, SW., Room 3312, Washington, DC 20590.

Categories of individuals covered by the system of records:

Present employees of the FHWA, and individuals under contract with the Federal Highway Administration who provide services to the Agency that would otherwise be performed by a Federal employee.

Categories of records in the system:

This system of records may include employee labor charging data containing employee names, current pay period, year-to-date salaries, hours worked by FHWA organizations and by established activity codes, and employee leave status. The system of records will also include financial data from the corporate accounting system, called Delphi (e.g., contract costs, travel costs, purchases of equipment) and financial data regarding grants management (e.g., Federal-aid funding amounts allocated to States or other Federal programs).

Authority for maintenance of the system:

31 U.S.C. 902; 31 U.S.C. 3512.

Purposes:

The Managerial Cost Accounting System established by the FHWA will enhance the Agency's ability to: (1) Measure and benchmark the Agency's financial and operational performance; (2) support management decisions and plans based on reliable cost information; (3) measure and control the cost of resources consumed and outputs produced; (4) track individual labor costs directly associated with projects/activities; and (5) facilitate the distribution of labor charges and actual operating expenses for costing purposes.

Routine uses of records maintained in the system, including categories of users and the purposes of such uses:

• To contractors, consultants, and other non-FHWA employees performing or working on a contract, grant, cooperative agreement, or other assignment from the Federal government, when necessary to accomplish an Agency function related to this system of records.

• To other government agencies when authorized by law.

• See Prefatory Statement of General Routine Uses.

Disclosure to consumer reporting agencies:

None.

Policies and practices for storing, retrieving, accessing, retaining, and disposing of records in the system:

Storage:

These records are stored in a database maintained under current FHWA application and hardware security requirements. Designated FHWA employees in each FHWA organization are granted access to the data for the purpose of downloading data to produce reports for local management use. These employees access the database through FHWA's secure intranet. Data downloaded by FHWA organizations may be retained on Local Area Network drives and may be in hardcopy format when required.

Retrievability:

These records may be retrieved by the employee's name and organization, designated activity, or FHWA/DOT goal.

Safeguards:

Access to the system of records is restricted to authorized users. Each user is granted access with his or her user name and security password.

The user privileges are based on his or her assigned access rights. User access to sensitive data is granted only to limited individuals with the approval of FHWA management. All records are maintained in secure, access-controlled areas or buildings.

Retention and disposal:

The records in this system of records are retained and disposed of in accordance with the approved records disposition schedules in FHWA Order M 1324.1A, Files Management and Records Disposition Manual.

System manager and address:

Strategic Initiatives Team Leader, Office of Policy, 400 7th Street, SW., Room 3312, Washington, DC 20590.

Notification procedure:

Write to the System Manager.

Record access procedures:

Write to the System Manager. Provide full name and a description of information that you seek, including the time frame during which the records may have been generated.

Contesting record procedures:

Write to the System Manager. Identify the information being contested, the reason for contesting it, and the correction requested.

Record source categories:

Information contained in this system is obtained from current Privacy Act systems of records, DOT/ALL 11, Integrated Personnel Payroll System (IPPS) and DOT/ALL 7, Fiscal Management Information System (FMIS), and the Delphi accounting system. Information contained in this system will also be obtained from CASTLE, the new DOT personnel system.

Exemptions claimed for the system:

None.

Dated: November 21, 2006.
Steven Lott,
Departmental Privacy Officer.

[FR Doc. E6-20113 Filed 11-27-06; 8:45 am]

BILLING CODE 4910-62-P